DEPARTMENT OF COMMERCE

International Trade Administration

[A-552-801]

Certain Frozen Fish Fillets From the Socialist Republic of Vietnam: Initiation of Antidumping Duty New Shipper Reviews

AGENCY: Import Administration, International Trade Administration, Department of Commerce.

EFFECTIVE DATE: March 29, 2010.

SUMMARY: The Department of Commerce (“Department”) has determined that two requests for a new shipper review (“NSR”) of the antidumping duty order on certain frozen fish fillets (“fish fillets”) from the Socialist Republic of Vietnam (“Vietnam”), received on February 19, 2010, and February 24, 2010, meet the statutory and regulatory requirements for initiation. The period of review (“POR”) for the two NSRs is August 1, 2009, through February 15, 2010.

FOR FURTHER INFORMATION CONTACT: Emeka Chukwudebe, AD/CVD Operations, Office 9, Import Administration, International Trade Administration, U.S. Department of Commerce, 14th Street and Constitution Avenue, NW, Washington, DC 20230; telephone: 202-482-0219.

SUPPLEMENTARY INFORMATION:

Background

The notice announcing the antidumping duty order on fish fillets from Vietnam was published in the Federal Register on August 12, 2003. See Notice of Antidumping Duty Order: Certain Frozen Fish Fillets From the Socialist Republic of Vietnam, 68 FR 47909 (August 12, 2003) (“Antidumping Duty Order”). On February 19, 2010, and on February 24, 2010, pursuant to section 751(a)(2)(B)(i) of the Tariff Act of 1930, as amended (“Act”), and 19 CFR 351.214(c), the Department received two NSR requests from Thien Ma Seafood Company, Ltd. (“Thien Ma”) and International Development & Investment Corporation (“IDI”), respectively. Thien Ma and IDI's requests were properly made during February 2010, which is the semi-annual anniversary of the Antidumping Duty Order. In response to inquiries from the Department, Thien Ma and IDI also submitted amendments to their initial NSR requests on March 17, 2010, and March 19, 2010, respectively. In this instance, IDI's sale of subject merchandise was made during the POR specified by the Department's regulations but the shipment entered within 15 days after the end of the POR. The Department finds that extending the POR to capture this entry would not prevent the completion of the review within the time limits set by the Department's regulations. Therefore, the Department has extended the POR for the new shipper review of IDI by 15 days. Thien Ma and IDI certified that they are both the producer and exporter of the subject merchandise upon which the requests were based. Thien Ma and IDI also submitted public versions of their requests, which adequately summarized proprietary information and provided explanations as to why certain proprietary information is not capable of summarization.

Pursuant to section 751(a)(2)(B)(i)(I) of the Act and 19 CFR 351.214(b)(2)(i), Thien Ma and IDI certified that they did not export subject merchandise to the United States during the period of investigation (“POI”). In addition, pursuant to section 751(a)(2)(B)(i)(II) of the Act and 19 CFR 351.214(b)(2)(iii)(A), Thien Ma and IDI certified that, since the initiation of the investigation, they have never been affiliated with any Vietnamese exporter or producer who exported subject merchandise to the United States during the POI, including those respondents not individually examined during the investigation. As required by 19 CFR 351.214(b)(2)(iii)(B), Thien Ma and IDI also certified that their export activities were not controlled by the central government of Vietnam.

In addition to the certifications described above, pursuant to 19 CFR 351.214(b)(2)(iv), Thien Ma and IDI submitted documentation establishing the following: (1) the date on which Thien Ma and IDI first shipped subject merchandise for export to the United States and; (2) the volume of their first shipment; and (3) the date of their first sale to an unaffiliated customer in the United States.

The Department conducted U.S. Customs and Border Protection (“CBP”) database queries in an attempt to confirm that Thien Ma and IDI's shipments of subject merchandise had entered the United States for consumption and that liquidation of such entries had been properly suspended for antidumping duties. The Department also examined whether the CBP data confirmed that such entries were made during the NSR POR. The information we examined was consistent with that provided by Thien Ma and IDI.

Initiation of New Shipper Reviews

Pursuant to section 751(a)(2)(B) of the Tariff Act of 1930, as amended (the “Act”) and 19 CFR 351.214(d)(1), we find that the requests submitted by Thien Ma and IDI meet the threshold requirements for initiation of a new shipper review for shipments of fish fillets from Vietnam produced and exported by Thien Ma and IDI. See “Memorandum to the File From Emeka Chukwudebe, Case Analyst, New Shipper Initiation Checklist: Certain Frozen Fish Fillets From Vietnam (A-552-801),” dated concurrently with this notice. The POR is August 1, 2009, through January 31, 2010. See 19 CFR 351.214(g)(1)(i)(B). The Department intends to issue the preliminary results of this NSR no later than 180 days from the date of initiation, and the final results no later than 270 days from the date of initiation. See section 751(a)(2)(B)(iv) of the Act.

It is the Department's usual practice, in cases involving non-market economies, to require that a company seeking to establish eligibility for an antidumping duty rate separate from the country-wide rate provide evidence of de jure and de facto absence of government control over the company's export activities. Accordingly, we will issue questionnaires to Thien Ma and IDI, which will include a section requesting information with regard to Thien Ma and IDI's export activities for separate rates purposes. The review will proceed if the response provides sufficient indication that Thien Ma and IDI are not subject to either de jure or de facto government control with respect to its export of subject merchandise.

We will instruct U.S. Customs and Border Protection to allow, at the option of the importer, the posting, until the completion of the review, of a bond or security in lieu of a cash deposit for each entry of the subject merchandise from Thien Ma and IDI in accordance with section 751(a)(2)(B)(iii) of the Act and 19 CFR 351.214(e). Because Thien Ma and IDI certified that they both produced and exported the subject merchandise, the sale of which is the basis for this new shipper review request, we will apply the bonding privilege to Thien Ma and IDI only for subject merchandise which Thien Ma and IDI both produced and exported.

Interested parties requiring access to proprietary information in this NSR should submit applications for disclosure under administrative protective order in accordance with 19 CFR 351.305 and 19 CFR 351.306. This initiation and notice are in accordance with section 751(a)(2)(B) of the Act and 19 CFR 351.214 and 19 CFR 351.221(c)(1)(i).

Dated: March 23, 2010.
John M. Andersen,
Acting Deputy Assistant Secretary for Antidumping and Countervailing Duty Operations.

[FR Doc. 2010-6898 Filed 3-26-10; 8:45 am]

BILLING CODE 3510-DS-S